DEPARTMENT OF ENERGY

Federal Energy Regulatory Commission

Combined Notice of Filings #1

Take notice that the commission received the following accounting Request filings:

Docket Numbers: AC25-128-000.

Applicants: Dominion Energy South Carolina, Inc.

Description: Dominion Energy South Carolina, Inc., formerly known as South Carolina Electric & Gas Company submits request to use Uniform System of Accounts Account 182.2, re costs incurred as a result of Hurricane Helene.

Filed Date: 9/15/25.

Accession Number: 20250915-5156.

Comment Date: 5 p.m. ET 10/6/25.

Take notice that the Commission received the following electric corporate filings:

Docket Numbers: EC25-144-000.

Applicants: Tenaska American Beech Holdings, LLC, American Beech Solar LLC.

Description: Joint Application for Authorization Under Section 203 of the Federal Power Act of Tenaska American Beech Holdings, LLC, et al.

Filed Date: 9/12/25.

Accession Number: 20250912-5169.

Comment Date: 5 p.m. ET 10/3/25.

Take notice that the Commission received the following exempt wholesale generator filings:

Docket Numbers: EG25-529-000.

Applicants: Chugwater Energy Center, LLC.

Description: Chugwater Energy Center, LLC submits Notice of Self-Certification of Exempt Wholesale Generator Status.

Filed Date: 9/17/25.

Accession Number: 20250917-5068.

Comment Date: 5 p.m. ET 10/8/25.

Docket Numbers: EG25-530-000.

Applicants: Chugwater Wind, LLC.

Description: Chugwater Wind, LLC submits Notice of Self-Certification of Exempt Wholesale Generator Status.

Filed Date: 9/17/25.

Accession Number: 20250917-5069.

Comment Date: 5 p.m. ET 10/8/25.

Take notice that the Commission received the following electric rate filings:

Docket Numbers: ER25-2784-001.

Applicants: TransWest Express LLC.

Description: Tariff Amendment: 09-17-2025 TransWest Express LLC Response to Deficiency Letter & Req. to be effective 9/2/2025.

Filed Date: 9/17/25.

Accession Number: 20250917-5120.

Comment Date: 5 p.m. ET 9/29/25.

Docket Numbers: ER25-3439-000.

Applicants: New York State Electric & Gas Corporation.

Description: Notice of Cancellation of Interconnection Agreement between New York State Electric & Gas Corporation and Madison Wind Power LLC.

Filed Date: 9/15/25.

Accession Number: 20250915-5157.

Comment Date: 5 p.m. ET 10/6/25.

Docket Numbers: ER25-3441-000.

Applicants: Keystone Appalachian Transmission Company.

Description: § 205(d) Rate Filing: KATCo submits a Construction Agmt SA No. 7359 to be effective 11/17/2025.

Filed Date: 9/17/25.

Accession Number: 20250917-5018.

Comment Date: 5 p.m. ET 10/8/25.

Docket Numbers: ER25-3442-000.

Applicants: PJM Interconnection, L.L.C.

Description: § 205(d) Rate Filing: Amendment to ISA, Service Agreement No. 5814; AD1-041/AE1-190/AE1-191 to be effective 11/17/2025.

Filed Date: 9/17/25.

Accession Number: 20250917-5026.

Comment Date: 5 p.m. ET 10/8/25.

Docket Numbers: ER25-3443-000.

Applicants: Midcontinent Independent System Operator, Inc., American Transmission Company LLC.

Description: § 205(d) Rate Filing: American Transmission Company LLC submits tariff filing per 35.13(a)(2)(iii: 2025-09-17_SA 4556 ATC-Vantage PAA to be effective 9/18/2025.

Filed Date: 9/17/25.

Accession Number: 20250917-5061.

Comment Date: 5 p.m. ET 10/8/25.

Docket Numbers: ER25-3444-000.

Applicants: Central Hudson Gas & Electric Corporation.

Description: § 205(d) Rate Filing: Revision to Rate Schedule 206 to be effective 9/1/2025.

Filed Date: 9/17/25.

Accession Number: 20250917-5064.

Comment Date: 5 p.m. ET 10/8/25.

Docket Numbers: ER25-3445-000.

Applicants: MeterGenius, Inc.

Description: Tariff Amendment: MeterGenius Inc MBR Cancellation to be effective 11/3/2025.

Filed Date: 9/17/25.

Accession Number: 20250917-5074.

Comment Date: 5 p.m. ET 10/8/25.

Docket Numbers: ER25-3446-000.

Applicants: Southwest Power Pool, Inc.

Description: § 205(d) Rate Filing: 4475 Rolling Prairie Solar GIA to be effective 9/9/2025.

Filed Date: 9/17/25.

Accession Number: 20250917-5079.

Comment Date: 5 p.m. ET 10/8/25.

Docket Numbers: ER25-3447-000.

Applicants: PJM Interconnection, L.L.C.

Description: Tariff Amendment: Notice of Cancellation of GIA, SA No. 7639; Project Identifier No. AF2-389 to be effective 11/17/2025.

Filed Date: 9/17/25.

Accession Number: 20250917-5080.

Comment Date: 5 p.m. ET 10/8/25.

Docket Numbers: ER25-3448-000.

Applicants: Dominion Energy South Carolina, Inc.

Description: § 205(d) Rate Filing: Modifications to Power Supply Agreement with the Town of Winnsboro, SC to be effective 9/1/2021.

Filed Date: 9/17/25.

Accession Number: 20250917-5083.

Comment Date: 5 p.m. ET 10/8/25.

Docket Numbers: ER25-3449-000.

Applicants: Arizona Public Service Company.

Description: § 205(d) Rate Filing: Rate Schedule No. 217, Exhibit B Revisions to be effective 11/17/2025.

Filed Date: 9/17/25.

Accession Number: 20250917-5127.

Comment Date: 5 p.m. ET 10/8/25.

Docket Numbers: ER25-3450-000.

Applicants: Arizona Public Service Company.

Description: § 205(d) Rate Filing: Service Agreement No. 435—E&P Agreement w/NTEC to be effective 8/18/2025.

Filed Date: 9/17/25.

Accession Number: 20250917-5133.

Comment Date: 5 p.m. ET 10/8/25.

Docket Numbers: ER25-3451-000.

Applicants: Oklahoma Wind, LLC.

Description: § 205(d) Rate Filing: SFA OK Wind, Sooner, and Woodward to be effective 9/18/2025.

Filed Date: 9/17/25.

Accession Number: 20250917-5135.

Comment Date: 5 p.m. ET 10/8/25.

Docket Numbers: ER25-3452-000.

Applicants: Sooner Wind, LLC.

Description: § 205(d) Rate Filing: Certificate of Concurrence to SFA with OK Wind to be effective 9/18/2025.

Filed Date: 9/17/25.

Accession Number: 20250917-5141.

Comment Date: 5 p.m. ET 10/8/25.

Take notice that the Commission received the following electric securities filings:

Docket Numbers: ES25-77-000.

Applicants: Georgia Power Company.

Description: Application Under Section 204 of the Federal Power Act for Authorization to Issue Securities of Georgia Power Company.

Filed Date: 9/12/25.

Accession Number: 20250912-5165.

Comment Date: 5 p.m. ET 10/3/25.

Docket Numbers: ES25-78-000.

Applicants: Old Dominion Electric Cooperative.

Description: Application Under Section 204 of the Federal Power Act for Authorization to Issue Securities of Old Dominion Electric Cooperative.

Filed Date: 9/12/25.

Accession Number: 20250912-5168.

Comment Date: 5 p.m. ET 10/3/25.

The filings are accessible in the Commission's eLibrary system by clicking on the links or querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595 or OPP@ferc.gov.

Dated: September 17, 2025.
Carlos D. Clay,
Deputy Secretary.

[FR Doc. 2025-18270 Filed 9-19-25; 8:45 am]

BILLING CODE 6717-01-P